DEPARTMENT OF JUSTICE

Antitrust Division

Notice Pursuant to the National Cooperative Research and Production Act of 1993—The Open Group, L.L.C.

Notice is hereby given that, on May 13, 2016, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances.

Specifically, AeroVironment, Inc., Simi Valley, CA; Brain4ce Education Solutions Pvt. Ltd., Bangalore, INDIA; Business Architecture Guild, Soquel, CA; Cambia Health Solutions, Inc., Portland, OR; CyberCore Technologies, L.L.C., Elkridge, MD; ExperTeach GmbH, Dietzenbach, GERMANY; Fundacion de Egresados de la Universidad Distrital, Bogota, COLOMBIA; Genesis Housing Association, London, UNITED KINGDOM; InfoDom Ltd., Zagreb, CROATIA; Informatica Advies Bureau bvba, Boutersem, BELGIUM; Justin Group Oy, Espoo, FINLAND; Knowledgecom Corporation Sdn. Bhd., Petaling Jaya, MALAYSIA; Knowledgehut Solutions Pvt. Ltd., Bengaluru, INDIA; Mike Moore Consultancy Ltd., Colchester, UNITED KINGDOM; Moody's Corporation, New York, NY; On-Line Applications Research Corporation, Hunstville, AL; Performance Software, Clearwater, FL; Processworks, Pte. Ltd., Singapore, SINGAPORE; PTI Consulting Limited, Nairobi, KENYA; Sandvik IT Services AB, Sandviken, SWEDEN; San Jose State University, San Jose, CA; Skillmetrix Knowledge Services LLP, Pune, INDIA; Tayllor & Cox, s.r.o., Prague, CZECH REPUBLIC, Thales USA, Inc., Arlington, VA; Trideum Corporation, Huntsville, AL; Tubitak Bilgem, Kocaeli, TURKEY; Vidyalankar School of Information Technology, Mumbai, INDIA, and Wakaru OY, Helsinki, FINLAND, have been added as parties to this venture.

Also, Ajilon (Australia) Pty Ltd., Perth, AUSTRALIA; APISA Alternativas en Productividad Integral, S.A. de C.V., Mexico City, MEXICO; ArchiSpark sp. z.o.o., Katowice, POLAND; AT&T IT Architecture Solutions, Alpharetta, GA; Atego Group Limited, Phoenix, AZ; BBN Technologies Corp., St. Louis Park, MN; British Telecom Plc; Edinburgh, UNITED KINGDOM; Cynergy Professional Systems LLC, Santa Ana, CA; Firstrand Bank Limited, Sandton, SOUTH AFRICA; Galois, Inc., Portland, OR; Government of New Brunswick, Fredericton, CANADA; Grant MacEwan College, Edmonton, CANADA; Information-technology Promotion Agency, Tokyo, JAPAN; Integrate IT, LLC, Hood River, OR; JSM Consulting, Lempaala, FINLAND; Kirk Hansen Consulting Inc., Toronto, CANADA; LoQutus NV, Sint-Martens-Latem, BELGIUM; Massachusetts Institute of Technology-Kerberos Consortium, Cambridge, MA; MooD International Software, York, UNITED KINGDOM; Ooredoo Group LLC, Doha, QATAR; Promise Innovation International Oy, Siunitio, FINLAND; Sensedia, Campinas, BRAZIL; St Mary's University College, London, UNITED KINGDOM; The Dragon1 Software Company, Bennekom, THE NETHERLANDS; Troux Technologies, Austin, TX; Universidad Politecnica de Victoria, Victoria, MEXICO; and Versatil-i-T, Longueuil, CANADA, have withdrawn as parties to this venture.

In addition, GE Intelligent Systems has changed its name to Abarco Systems, Inc., Huntsville, AL.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on December 8, 2015. A notice was published in the Federal Register pursuant to Section 6(b) of the Act on January 11, 2016 (81 FR 1206).

Patricia A. Brink,
Director of Civil Enforcement, Antitrust Division.

[FR Doc. 2016-14707 Filed 6-20-16; 8:45 am]

BILLING CODE P